DEPARTMENT OF AGRICULTURE

Food Safety and Inspection Service

[Docket No. 03-021N]

National Advisory Committee on Meat and Poultry Inspection

AGENCY: Food Safety and Inspection Service, USDA.

ACTION: Notice of public meeting.

SUMMARY: The National Advisory Committee on Meat and Poultry Inspection (NACMPI) will hold a public meeting on June 23-24, 2003, to review and discuss the following issues: Impact of Bio-security Issues on Industry; Delivery of Training; and State Review Methods. Three subcommittees of the full committee will also meet on June 23, 2003, to work on the issues discussed during the full Committee session.

DATES: The full Committee will hold a public meeting on Monday, June 23 and Tuesday, June 24, 2003, from 8:30 a.m. to 5 p.m. Subcommittees will hold open meetings on Monday, June 23, 2003, from 7 p.m. to 9 p.m.

ADDRESSES: All Committee meetings will take place at the Hilton Alexandria Old Town, 1767 King Street, Alexandria, VA; telephone (703) 837-0440. The full Committee will meet on June 23-24, 2003. A meeting agenda is available on the Internet at http://www.fsis.usda.gov/OPPDE/nacmpi, which is a sub-web page of the FSIS home page at http://www.fsis.usda.gov. Submit one original and two copies of written comments to the FSIS Docket Room, reference docket 03-021N, U.S. Department of Agriculture, Food Safety and Inspection Service, Room 102 Cotton Annex, 300 12th Street, SW., Washington, DC 20250-3700. Comments may also be sent by facsimile (202) 205-0381. The comments and the official transcript of the meeting, when they become available, will be kept in the FSIS Docket Room at the address provided above. All comments received in response to this notice will be considered part of the public record and will be available for reviewing in the FSIS Docket Room between 8:30 a.m. and 4:30 p.m., Monday through Friday.

FOR FURTHER INFORMATION CONTACT: Robert Tynan for technical information at (202) 720-2982 or e-mail robert.tynan@fsis.usda.gov and Sonya L. West for meeting information at (202) 720-2561, FAX (202) 205-0157, or e-mail sonya.west@fsis.usda.gov. Persons requiring a sign language interpreter or other special accommodations should notify Ms. West no later than June 13, 2003, at the above numbers or by e-mail. Information is also available on the Internet at http://www.fsis.usda.gov/OPPDE/nacmpi.

SUPPLEMENTARY INFORMATION:

Background

On April 15, 2003, the Secretary of Agriculture renewed the charter for the NACMPI. The Committee provides advice and recommendations to the Secretary of Agriculture pertaining to the Federal and State meat and poultry inspection programs pursuant to sections 301 (a)(4), 7(c), 24, 205, 301(a)(3), and 301(c) of the Federal Meat Inspection Act and sections 5(a)(3), 5(a)(4), 5(c), 8(b), and 11(e) of the Poultry Products Inspection Act. The Administrator of FSIS is the chairperson of the Committee. Membership of the Committee is drawn from representatives of consumer groups; producers, processors, and marketers from the meat and poultry industry; State government officials; and academia. The current members of the NACMPI are: Ms. Deanna Baldwin, Maryland Department of Agriculture; Dr. Gladys Bayse, Spelman College; Dr. David Carpenter, Southern Illinois University; Ms. Charlotte Christin, Center for Science in the Public Interest; Dr. James Denton, University of Arkansas; Dr. Kevin Elfering, Minnesota Department of Agriculture; Ms. Sandra Eskin, American Association of Retired Persons; Mr. Michael Govro, Oregon Department of Agriculture; Dr. Joseph Harris, Southwest Meat Association; Dr. Jill Hollingsworth, Food Health; Dr. Alice Johnson, National Turkey Federation; Mr. Michael Kowalcyk, Safe Tables Our Priority; Dr. Irene Leech, Virginia Citizens Consumer Council; Mr. Charles Link, Cargill Meat Solutions; Dr. Catherine Logue, North Dakota State University; and Mr. Mark Schad, Schad Meats.

The Committee has three subcommittees to deliberate on specific issues and make recommendations to the whole Committee.

All interested parties are welcome to attend the meetings and to submit written comments and suggestions concerning issues the Committee will review and discuss.

Members of the public will be required to register before entering the meeting.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail Subscription service. In addition, the update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the Internet at http://www.fsis.usda.gov/oa/update/update.htm.

Click on the “Subscribe to the Constituent Update Listserv” link, then fill out and submit the form.

Done in Washington, DC, on: June 6, 2003.
Garry L. McKee,
Administrator.

[FR Doc. 03-14724 Filed 6-10-03; 8:45 am]

BILLING CODE 3410-DM-P